DEPARTMENT OF THE INTERIOR

Bureau of Land Management

43 CFR Part 2530

[WO-350-1430-PF-24 1A]

RIN 1004-AB10

Indian Allotments

AGENCY: Bureau of Land Management, Interior.

ACTION: Proposed rule; withdrawal.

SUMMARY: The Bureau of Land Management (BLM) is withdrawing the proposed rule that would have revised the regulations for Indian allotments to reduce the regulatory burden imposed on the public, to streamline and clarify the existing regulations and to remove redundant and unnecessary requirements. The proposal was published in the Federal Register on October 16, 1996. We reopened the comment period in the Federal Register on July 15, 1999 for 60 days.

FOR FURTHER INFORMATION CONTACT: You may contact Jeff Holdren, Lands and Realty Group, on (202) 452-7779 (Commercial or FTS). Persons who use a telecommunications device for the deaf (TDD) may call the Federal Information Relay Service (FIRS) at 1-800-877-8339, 24 hours a day, seven days a week, except holidays, to contact Mr. Holdren.

SUPPLEMENTARY INFORMATION: The BLM published the proposed rule in the Federal Register on October 16, 1996 (61 FR 53887). We reopened the comment period in the Federal Register on July 15, 1999 (64 FR 38172) for 60-days because we inadvertently omitted the information collection requirements. We received three comments. The BLM decided to withdraw the proposed rule and will take no further action on this proposal regarding Indian allotments.

Dated: September 24, 2004.
Chad Calvert,
Acting Assistant Secretary, Land and Minerals Management.

[FR Doc. 04-25766 Filed 11-19-04; 8:45 am]

BILLING CODE 4310-84-P